DEPARTMENT OF ENERGY

Office of Energy Efficiency and Renewable Energy

10 CFR Part 431

[Docket No. EE-RM/STD-01-375]

RIN 1904-AB09

Energy Conservation Program for Commercial and Industrial Equipment: Energy Conservation Standards for Commercial Unitary Air Conditioners and Heat Pumps

Correction

In proposed rule document 04-16575 beginning on page 45460 in the issue of Thursday, July 29, 2004, make the following correction:

On page 45465, in the table, in the column “Equipment type”, in the final entry, the phrase, “(Cooling Mode)” should read, “(Heating Mode).”

[FR Doc. C4-16575 Filed 8-4-04; 8:45 am]

BILLING CODE 1505-01-D

DEPARTMENT OF TRANSPORTATION

Federal Aviation Administration

Commercial Space Transportation; Waiver of Liquid Propellant Storage and Handling Requirements for Operation of a Launch Site at the Mojave Airport in CA

Correction

In notice document 04-15551 beginning on page 41327 in the issue of Thursday, July 8, 2004 make the following correction:

On page 41328, in the second column, in the first full paragraph, in the last line, “1,000 feet” should read “100 feet”.

[FR Doc. C4-15551 Filed 8-4-04; 8:45 am]

BILLING CODE 1505-01-D